NATIONAL INDIAN GAMING COMMISSION

Notice of Approved Class II and III Tribal Gaming Ordinances

AGENCY: National Indian Gaming Commission.

ACTION: Notice.

SUMMARY: The purpose of this notice is to inform the public of class II and III gaming ordinances approved by the Chairman of the National Indian Gaming Commission.

DATES: Effective Date: This notice is effective upon date of publication in the Federal Register.

FOR FURTHER INFORMATION CONTACT: Ms. Frances Fragua, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of the IGRA authorizes the Chairman of the Commission to approve class II and class III tribal gaming ordinances. Section 2710(d)(2)(B) of the IGRA, as implemented by 25 CFR 522.8, requires the Commission to publish, in the Federal Register, approved class III gaming ordinances and the approvals thereof.

The Commission believes that publishing a periodic notice of approved class II or III gaming ordinances in the Federal Register, along with publishing on the Commission's Web site the full text of each ordinance and any approved amendments, is sufficient to meet the requirements of 25 U.S.C. Section 2710(d)(2)(B) and provide the public with adequate notice of all gaming ordinance approvals. Every approved gaming ordinance, every approved ordinance amendment, and the approvals thereof, are posted on the Commission's Web site (http://www.nigc.gov) under Reading Room, Gaming Ordinances. Also, the Commission will make copies of approved ordinances available to the public upon request. Requests can be made in writing to the Office of General Counsel, National Indian Gaming Commission, Attn: Frances Fragua, 1441 L Street, NW., Suite 9100, Washington, DC 20005.

The following constitutes a consolidated list of all Tribes for which the Chairman has approved tribal gaming ordinances authorizing class II or III gaming.

1. Absentee-Shawnee Tribe of Oklahoma

2. Agua Caliente Band of Cahuilla Indians

3. Ak-Chin Indian Community

4. Alabama-Quassarte Tribal Town

5. Alturas Indian Rancheria

6. Apache Tribe of Oklahoma

7. Assiniboine & Sioux Tribes of Fort Peck

8. Augustine Band of Mission Indians

9. Bad River Band of Lake Superior Tribe of Chippewa

10. Barona Band of Mission Indians

11. Bay Mills Indian Community

12. Bear River Band of Rohnerville Rancheria

13. Berry Creek Rancheria of Tyme Maidu Indians

14. Big Lagoon Rancheria

15. Big Pine Paiute Tribe of the Owens Valley

16. Big Sandy Rancheria Band of Western Mono Indians

17. Big Valley Band of Pomo Indians

18. Blackfeet Tribe

19. Blue Lake Rancheria of California

20. Bois Forte Band of Minnesota Chippewa

21. Bridgeport Paiute Indian Community of California

22. Buena Vista Rancheria of Me-Wuk Indians

23. Burns Paiute Tribe

24. Cabazon Band of Mission Indians

25. Cachil Dehe Band of Wintun Indians of the Colusa Indian Community

26. Caddo Indians Tribe of Oklahoma

27. Cahto Tribe of the Laytonville Rancheria

28. Cahuilla Band of Mission Indians

29. California Valley Me-Wuk Tribe

30. Campo Band of Diegueno Mission Indians

31. Cayuga Nation of of New York

32. Chemehuevi Indian Tribe

33. Cher-Ae Heights Indian Community of the Trinidad Rancheria

34. Cherokee Nation of Oklahoma

35. Cheyenne and Arapaho Tribes of Oklahoma

36. Cheyenne River Sioux Tribe

37. Chickasaw Nation of Oklahoma

38. Chicken Ranch Band of Me-wuk Indians

39. Chippewa Cree Tribe of the Rocky Boy's Reservation

40. Chitimacha Tribe of Louisiana

41. Choctaw Nation of Oklahoma

42. Citizen Band Potawatomi Indians of Oklahoma

43. Cloverdale Rancheria of Pomo Indians

44. Cocopah Indian Tribe

45. Coeur d'Alene Tribe

46. Colorado River Indian Tribes

47. Comanche Indian Tribe of Oklahoma

48. Confederated Salish and Kootenai Tribes of the Flathead Reservation

49. Confederated Tribes and Bands of the Yakama

50. Confederated Tribes of Coos, Lower Umpqua and Siuslaw

51. Confederated Tribes of the Chehalis Reservation

52. Confederated Tribes of the Colville Reservation

53. Confederated Tribes of the Grand Ronde Community

54. Confederated Tribes of the Siletz Indians of Oregon

55. Confederated Tribes of the Umatilla Indian Reservation

56. Confederated Tribes of the Warm Springs Reservation

57. Coquille Indian Tribe of Oregon

58. Coushatta Indian Tribe of Louisiana

59. Cow Creek Band of Umpqua Indians

60. Cowlitz Indian Tribe

61. Coyote Valley Band of Pomo Indians

62. Crow Creek Sioux Tribe

63. Crow Indian Tribe of Montana

64. Delaware Tribe of Indians of Oklahoma

65. Delaware Nation of Western Oklahoma

66. Dry Creek Rancheria of Pomo Indians

67. Eastern Band of Cherokee Indians of North Carolina

68. Eastern Shawnee Tribe of Oklahoma

69. Eastern Shoshone Tribe of the Wind River Indian Reservation

70. Elem Indian Colony of Pomo Indians

71. Elk Valley Rancheria

72. Ely Shoshone Tribe

73. Enterprise Rancheria of the Maidu Indians

74. Ewiiaapaayp Band of Kumeyaay Indians

75. Fallon Paiute-Shoshone Tribes

76. Federated Indians of Graton Rancheria

77. Flandreau Santee Sioux Tribe

78. Fond du Lac Reservation

79. Forest County Potawatomi Community

80. Fort Belknap Indian Community

81. Fort Independence Indian Reservation

82. Fort McDermitt Paiute-Shoshone Indian Tribe

83. Fort McDowell Yavapai Nation of Arizona

84. Fort Mojave Indian Tribe

85. Fort Sill Apache Tribe of Oklahoma

86. Gila River Indian Community

87. Grand Portage Band of Minnesota Indians

88. Grand Traverse Band of Ottawa and Chippewa

89. Greenville Rancheria of Maidu Indians

90. Grindstone Indian Rancheria of Wintun

91. Guidiville Indian Reservation

92. Habematolel Pomo of Upper Lake

93. Hannahville Indian Community

94. Ho-Chunk Nation of Wisconsin

95. Hoopa Valley Tribe

96. Hopland Band of Pomo Indians

97. Hualapai Indian Tribe

98. Iowa Tribe of Kansas and Nebraska

99. Iowa Tribe of Oklahoma

100. Jackson Rancheria Band of Me-wuk Indians

101. Jamestown S'Klallam Tribe

102. Jamul Indian Village of California

103. Jena Band of Choctaw Indians

104. Jicarilla Apache Nation

105. Kaibab Band of Paiute Indians

106. Kalispel Tribe of Indians

107. Karuk Tribe of California

108. Kaw Nation of Oklahoma

109. Keweenaw Bay Indian Community

110. Kialegee Tribal Town of Oklahoma

111. Kickapoo Traditional Tribe of Texas

112. Kickapoo Nation of Kansas

113. Kickapoo Tribe of Oklahoma

114. Kiowa Tribe of Oklahoma

115. Klamath Tribes of Oregon

116. Klawock Cooperative Association

117. Kootenai Tribe of Idaho

118. LaJolla Band of Luiseno Mission Indians

119. La Posta Band of Diegueno Mission Indians

120. Lac Courte Oreilles Band of Lake Superior Chippewa

121. Lac du Flambeau Band of Lake Superior Chippewa

122. Lac Vieux Desert Band of Lake Superior Chippewa

123. Las Vegas Paiute Tribe

124. Leech Lake Band of Ojibwe Indians

125. Little River Band of Ottawa Chippewa

126. Little Traverse Bay Bands of Odawa Indians

127. Lower Brule Sioux Tribe

128. Lower Elwha Klallam Tribe

129. Lower Sioux Indian Community

130. Lummi Tribe of the Lummi Reservation

131. Lytton Band of Pomo Indians

132. Makah Indian Tribe of the Makah Indian Reservation

133. Manchester Band of Pomo Indians

134. Manzanita Band of Diegueno Mission Indians

135. Mashantucket Pequot Tribe of Connecticut

136. Match-E-Be-Nash-She-Wish Band of Potawatomi Indians of Michigan

137. Mechoopda Indian Tribe of Chico Rancheria

138. Menominee Indian Tribe of Wisconsin

139. Mescalero Apache Tribe

140. Metlakatla Indian Community of Annette Island of Alaska

141. Miami Tribe of Oklahoma

142. Miccosukee Tribe of Indians of Florida

143. Middletown Rancheria of Pomo Indians

144. Mille Lacs Band of Minnesota Chippewa

145. Mississippi Band of Choctaw Indians

146. Moapa Band of Pauites

147. Modoc Tribe of Oklahoma

148. Mohegan Indian Tribe of Connecticut

149. Mooretown Rancheria of Maidu Indians

150. Morongo Band of Cahuilla Mission Indians

151. Muckleshoot Indian Tribe

152. Muscogee (Creek) Nation of Oklahoma

153. Narragansett Indian Tribe

154. Navajo Nation

155. Nez Perce Tribe of Idaho

156. Nisqually Indian Tribe

157. Nooksack Indian Tribe of Washington

158. Northern Arapaho Tribe of the Wind River Indians

159. Northern Cheyenne Tribe

160. Nottawaseppi Huron Band of Potawatomi

161. Oglala Sioux Tribe of Pine Ridge

162. Ohkay Owingeh

163. Omaha Tribe of Nebraska

164. Oneida Nation of New York

165. Oneida Tribe of Indians of Wisconsin

166. Organized Village of Kake

167. Osage Tribe of Oklahoma

168. Otoe-Missouria Tribe of Oklahoma

169. Ottawa Tribe of Oklahoma

170. Paiute-Shoshone Indians of the Bishop Community of the Bishop Colony

171. Pala Band of Luiseno Mission Indians

172. Pascua Yaqui Tribe of Arizona

173. Paskenta Band of Nomlaki Indians

174. Passamaquoddy Tribe

175. Pauma-Yuima Band of Luiseno Mission Indians

176. Pawnee Nation of Oklahoma

177. Pechanga Band of Luiseno Mission Indians

178. Peoria Tribe of Indians of Oklahoma

179. Picayune Rancheria of Chukchansi Indians

180. Pinoleville Indian Reservation

181. Pit River Tribe

182. Poarch Band of Creek Indians

183. Pokagon Band of Potawatomi Indians

184. Ponca Nation of Oklahoma

185. Ponca Tribe of Nebraska

186. Port Gamble S'Klallam Indian Community

187. Prairie Band of Potawatomi Nation in Kansas

188. Prairie Island Indian Community

189. Pueblo of Acoma

190. Pueblo of Isleta

191. Pueblo of Jemez

192. Pueblo of Laguna

193. Pueblo of Nambe

194. Pueblo of Picuris

195. Pueblo of Pojoaque

196. Pueblo of San Felipe

197. Pueblo of San Ildefonso

198. Pueblo of Sandia

199. Pueblo of Santa Ana

200. Pueblo of Santa Clara

201. Pueblo of Santo Domingo

202. Pueblo of Taos

203. Pueblo of Tesuque

204. Puyallup Tribe of Indians

205. Pyramid Lake Paiute Tribe

206. Quapaw Tribe of Indians of Oklahoma

207. Quartz Valley Indian Comminity

208. Quechan Tribe of Fort Yuma

209. Quileute Tribe

210. Quinault Indian Tribe

211. Red Cliff Band of Lake Superior Chippewa Indians

212. Red Cliff, Sokaogon Chippewa and Lac Courte Oreilles Band

213. Red Lake Band of Chippewa Indians

214. Redding Rancheria

215. Redwood Valley Rancheria of Pomo Indians

216. Reno-Sparks Indian Colony

217. Resighini Rancheria of Coast Indian Community

218. Rincon San Luiseno Band of Mission Indians

219. Robinson Rancheria of Pomo Indians

220. Rosebud Sioux Tribe

221. Round Valley Indian Tribes

222. Rumsey Indian Rancheria of Wintun Indians

223. Sac & Fox Nation of Oklahoma

224. Sac & Fox Tribe of Mississippi in Iowa

225. Sac & Fox Nation of Missouri in Kansas and Nebraska

226. Saginaw Chippewa Indian Tribe of Michigan

227. Salt River Pima-Maricopa Indian Community

228. Samish Indian Tribe of Washington

229. San Carlos Apache Tribe of Arizona

230. San Manuel Band of Serrano Mission Indians

231. San Pasqual Band of Diegueno Mission Indians

232. Santa Rosa Band of Tachi Indians

233. Santa Ynez Band of Chumash Mission Indians

234. Santa Ysabel Band of Diegueno Mission Indians

235. Santee Sioux Nation

236. Sauk-Suiattle Indian Tribe

237. Sault Ste. Marie Tribe of Chippewa Indians

238. Scotts Valley Band of Pomo Indians

239. Seminole Tribe of Florida

240. Seminole Tribe of Oklahoma

241. Seneca Nation of Indians of New York

242. Seneca-Cayuga Tribe of Oklahoma

243. Shakopee Mdewakanton Sioux Community

244. Shawnee Tribe of Oklahoma

245. Sherwood Valley Rancheria of Pomo Indians

246. Shingle Springs Band of Miwok Indians

247. Shoalwater Bay Indian Tribe

248. Shoshone-Bannock Tribes of Fort Hall

249. Sisseton-Wahpeton Sioux Tribe of Lake Traverse Reservation

250. Skokomish Indian Tribe

251. Smith River Rancheria

252. Snoqualmie Tribe of Washington

253. Soboba Band of Mission Indians

254. Sokaogon Chippewa Community

255. Southern Ute Indian Tribe

256. Spirit Lake Sioux Tribe

257. Spokane Tribe of Indians

258. Squaxin Island Tribe

259. St. Croix Chippewa Indians of Wisconsin

260. St. Regis Mohawk Tribe of New York

261. Standing Rock Sioux Tribe

262. Stillaguamish Tribe of Indians

263. Stockbridge-Munsee Community

264. Suquamish Indian Tribe

265. Susanville Indian Rancheria

266. Swinomish Indian Tribal Community

267. Sycuan Band of Mission Indians

268. Table Mountain Rancheria

269. Te-Moak Tribe of Western Shoshone

270. Thlopthlocco Tribal Town

271. Three Affiliated Tribes of the Fort Berthold Reservation

272. Timbisha Shoshone Tribe

273. Tohono O'odham Nation

274. Tonkawa Tribe of Indians of Oklahoma

275. Tonto Apache Tribe

276. Torres Martinez Desert Cahuilla Indians

277. Tulalip Tribes of Washington

278. Tule River Tribe

279. Tunica-Biloxi Tribe of Louisiana

280. Tuolumne Band of Me-Wuk Indians

281. Turtle Mountain Band of Chippewa Indians

282. Twenty Nine Palms Band of Mission Indians

283. United Auburn Indian Community

284. United Keetoowah Band of Cherokee Indians

285. Upper Sioux Community

286. Upper Skagit Indian Tribe of Washington

287. Ute Mountain Ute Tribe

288. U-tu Utu Gwaitu Paiute Tribe of Benton Paiute Reservation

289. Viejas Band of Mission Indians

290. Washoe Tribe of Nevada and California

291. White Earth Band of Minnesota Chippewa Indians

292. White Mountain Apache Tribe

293. Wichita and Affiliated Tribes of Oklahoma

294. Winnebago Tribe of Nebraska

295. Wiyot Tribe of Table Bluff Reservation

296. Wyandotte Nation of Oklahoma

297. Yankton Sioux Tribe

298. Yavapai Apache Nation of Camp Verde Indians

299. Yavapai-Prescott Indian Tribe

300. Ysleta Del Sur Pueblo of Texas

301. Yurok Tribe of Yurok Reservation

Philip N. Hogen,
Chairman, National Indian Gaming Commission.

[FR Doc. E9-14655 Filed 6-22-09; 8:45 am]

BILLING CODE 7565-02-P